ENVIRONMENTAL PROTECTION AGENCY

[OAR-2002-0073, FRL-7877-8]

Agency Information Collection Activities: Proposed Collection; Comment Request; Recordkeeping and Period Reporting of the Production, Import, Export, Recycling, Destruction, Transhipment and Feedstock Use of Ozone-Depleting Substances, EPA ICR Number 1432.22, OMB Control Number 2060-0170

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on May 31, 2005. Before submitting the ICR to OMB for review and approval, EPA is soliciting comments on specific aspects of the proposed information collection as described below.

DATES: Comments must be submitted on or before April 29, 2005.

ADDRESSES: Submit your comments, referencing docket ID number No. OAR-2002-0073, to EPA online using EDOCKET (our preferred method), by e-mail to a-and-r-Docket@epa.gov, or by mail to: EPA Docket Center, (EPA/DC), Environmental Protection Agency, EPA West, Room B102, 1301 Constitution Ave, NW., Washington, DC 20460.

FOR FURTHER INFORMATION CONTACT: Jabeen Akhtar, Office of Atmospheric Programs, Stratospheric Protection Division, Mail Code 6205J, Environmental Protection Agency, 1200 Pennsylvania Ave., NW., Washington, DC 20460; telephone number: (202) 343-9313; fax number: 202-343-2338; e-mail address: akhtar.jabeen@epa.gov.

SUPPLEMENTARY INFORMATION: EPA has established a public docket for this ICR under Docket ID number OAR-2002-0073, which is available for public viewing at the EPA Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the EPA Air Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are:

Category | NAICS | Examples of potentially regulated entities
1. Industrial organic chemicals, NEC | 325199 | Producers, importers, or exporters of CBM.
2. Pharmaceutical preparations | 325412 | Transformers of CBM.
3. Pesticides and agricultural chemicals, NEC | 32532 | Transformers of CBM.
4. Chemicals and allied products, NEC | 42269 | Lab suppliers of CBM.
5. Testing laboratories, except veterinary testing labs | 54138 | Lab users of CBM.
6. Medical and diagnostic laboratories | 6215 | Lab users of CBM.
7. Research and development in the physical, engineering and life sciences | 54171 | Lab users of CBM.

Title: Recordkeeping and Period Reporting of the Production, Import, Export, Recycling, Destruction, Transhipment and Feedstock Use of Ozone-Depleting Substances.

Abstract: With this renewal Information Collection Request (ICR), EPA's Office of Air and Radiation is renewing the ICR for the final rule for the phaseout of chlorobromomethane (CBM) (68 FR 42884) which imposed recordkeeping and reporting requirements associated with the production, import, export, recycling, destruction, transhipment, and feedstock use of CBM.

Producers, importers, and exporters are required to submit to EPA quarterly reports of the quantity of CBM in each of their transactions; they are also required to report the quantity of CBM transformed or destroyed. Producers, importers, and exporters are also required to maintain records such as Customs entry forms, bills of lading, sales records, and canceled checks to support their quarterly reports. The quarterly reports may be faxed or mailed to EPA, where they may be handled as confidential business information. EPA informs respondents that they may assert claims of business confidentiality for any of the information they submit. Information claimed confidential will be treated in accordance with the procedures for handling information claimed as confidential under 40 CFR part 2, subpart b, and will be disclosed only if EPA determines that the information is not entitled to confidential treatment. If no claim of confidentiality is asserted when the information is received by EPA, it may be made available to the public without further notice to the respondents (40 CFR 2.203). EPA will store the submitted information in a computerized database designed to track production, import, and export balances and transfer activities. All the information requested from respondents under this ICR is required by statute (CAA Section 603(b)) and to ensure that the U.S. maintains compliance with the Montreal Protocol reporting requirements under Article 7. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement:

For companies affected by the regulation for CBM, the reporting burden, which includes time for preparing and submitting reports, was estimated to be an average of 19.4 hours per respondent per year. This estimate was calculated by dividing the total number of hours spent annually on reporting requirements (2,580) by the total number of respondents (133) (i.e., 2580/133 = 19.4). The recordkeeping burden for these companies, which includes time for gathering information and developing and maintaining records, was estimated to average 13.38 hours per respondent per year. This estimate was calculated by using figures from a previous ICR, entitled “Recordkeeping and Periodic Reporting of the Production, Import, Export, Recycling, Destruction, Transhipment and Feedstock Use of Ozone-Depleting Substances” (ICR 1432.21). The labor costs portion of the industry reporting burden is estimated in Table I of ICR 1432.22. The estimate included the time needed to comply with EPA's reporting requirements. The total industry annual labor cost burden was estimated to be $198,350.

It is expected that firms which are subject to the recordkeeping and reporting requirements for CBM are largely a subset of firms which already perform these recordkeeping and reporting requirements for already-regulated ozone-depleting substances. Therefore, any additional O&M costs were expected to be minimal. A value of $3,000 for total industry O&M costs was assumed.

The following is a summary of the estimates taken from ICR 1432.22:

Total number of potential respondents: 133

Frequency of response: Quarterly, annually

Respondent annual burden hours: 2,580

Respondent annual labor costs: $198,350

Respondent capital/start-up costs: $0

Respondent O & M costs: $3,000

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 8, 2005.
Drusilla Hufford,
Director, Stratospheric Protection Division.

[FR Doc. 05-3797 Filed 2-25-05; 8:45 am]

BILLING CODE 6560-50-P